DEPARTMENT OF THE INTERIOR

National Park Service

36 CFR Part 7

[NPS-GLCA-NPS0038209 PPIMGLCAA0.PPMPSAS1Z.Y00000-244P10361]

RIN 1024-AE91

Glen Canyon National Recreation Area; Motor Vehicles

AGENCY: National Park Service, Interior.

ACTION: Proposed rule.

SUMMARY: The National Park Service proposes to amend special regulations for the Glen Canyon National Recreation Area to update rules about the use of motor vehicles on roads and off roads on designated routes and areas.

DATES: Comments must be received by November 15, 2024. Information Collection Requirements: If you wish to comment on the information collection requirements in this proposed rule, please note that the Office of Management and Budget (OMB) is required to decide on the collection of information contained in this proposed rule between 30 and 60 days after publication of this proposed rule in the Federal Register. Therefore, comments should be submitted to OMB by November 15, 2024.

ADDRESSES: You may submit comments, identified by the Regulation Identifier Number (RIN) 1024-AE91, by any of the following methods:

(1) Electronically: Go to the Federal eRulemaking Portal: https://www.regulations.gov/. Follow the instructions for submitting comments.

(2) By hard copy: Mail to: Superintendent, Glen Canyon National Recreation Area, P.O. Box 1507, Page, Arizona 86040.

Instructions: Comments will not be accepted by fax, email, or in any way other than those specified above. All submissions received must include the words “National Park Service” or “NPS” and must include the docket number or RIN (1024-AE91) for this rulemaking. Comments received may be posted without change to https://www.regulations.gov/, including any personal information provided. The NPS will not accept bulk comments in any format (hard copy or electronic) submitted on behalf of others. The scope of this rule is limited to the specific changes to existing regulations proposed in this document. The NPS will not consider comments that address aspects of existing regulations that would not being changed by this proposed rule.

Docket: For access to the docket to read comments received, go to https://www.regulations.gov/ and search for “1024-AE91.”

Information Collection Requirements: Written comments and suggestions on the information collection requirements should be submitted by the date specified above in DATES to https://www.reginfo.gov/public/do/PRAMain. Find this particular information collection by selecting “Currently under Review—Open for Public Comments” or by using the search function. Please provide a copy of your comments to the NPS Information Collection Clearance Officer (ADIR-ICCO), 13461 Sunrise Valley Drive (MS-244), Herndon, VA 20171 (mail); or phadrea_ponds@nps.gov (email). Please include “1024-AE91” in the subject line of your comments.

FOR FURTHER INFORMATION CONTACT: Michelle Kerns, Superintendent, Glen Canyon National Recreation Area, P.O. Box 1507, Page, Arizona 86040, by phone at 928-608-6210, or by email at GLCA_Superintendent@nps.gov. Individuals in the United States who are deaf, deafblind, hard of hearing, or have a speech disability may dial 711 (TTY, TDD, or TeleBraille) to access telecommunications relay services. Individuals outside the United States should use the relay services offered within their country to make international calls to the point-of-contact in the United States. In compliance with the Providing Accountability Through Transparency Act of 2023, the plain language summary of the proposal is available on Regulations.gov in the docket for this rulemaking.

SUPPLEMENTARY INFORMATION:

Background

Purpose and Significance of Glen Canyon National Recreation Area

Congress established Glen Canyon National Recreation Area (the recreation area) in 1972 “to provide for the public outdoor recreation use and enjoyment of Lake Powell and lands adjacent thereto in the states of Arizona and Utah and to preserve the scenic, scientific, and historic features contributing to the public enjoyment of the area.” 16 U.S.C. 460dd.

The recreation area encompasses 1,254,117 acres in northern Arizona and southeastern Utah and constitutes a substantial part of the outstanding public lands of the Colorado Plateau. The recreation area offers a natural diversity of rugged water- and wind-carved canyons, buttes, mesas, and other outstanding physiographic features. The recreation area allows for a variety of recreational opportunities, including on- and off-road motor vehicle use and contains Lake Powell, the second-largest human-made lake in North America, which provides the opportunity to recreate in a natural environment and access remote backcountry areas. Evidence of 11,000 years of human occupation and use of resources in the recreation area provides a continuing story of the prehistoric, historic, and present-day affiliation of humans and their environment.

Authority To Promulgate Regulations

The National Park Service (NPS) manages the recreation area under the NPS Organic Act (54 U.S.C. 100101 et seq.), which gives the NPS broad authority to regulate the use of the park areas under its jurisdiction. The Organic Act authorizes the Secretary of the Interior, acting through the NPS, to “prescribe such regulations as the Secretary considers necessary or proper for the use and management of [National Park] System units.” 54 U.S.C. 100751(a). In the recreation area's enabling act, Congress directed the Secretary of the Interior to “administer, protect, and develop the recreation area in accordance with the [Organic Act], and with any other statutory authority available to him for the conservation and management of natural resources.” 16 U.S.C. 460dd-3. These general authorities allow the NPS to regulate the use of motor vehicles within the recreation area, both on roads and off roads in designated routes and areas.

Executive Order 11644, Use of Off-Road Vehicles on the Public Lands, was issued in 1972 and amended by Executive Order 11989 in 1977. Executive Order 11644 required Federal agencies to issue regulations designating specific areas and routes on public lands where the use of off-road vehicles (ORVs) may be allowed. The NPS implemented these Executive Orders, in part, by promulgating a regulation at 36 CFR 4.10 (Travel on park roads and designated routes). Under 36 CFR 4.10, the use of motor vehicles off established roads is not permitted unless routes and areas are designated for off-road motor vehicle use by special regulation. Under 36 CFR 4.10(b), such routes and areas may be designated only in national recreation areas, national seashores, national lakeshores and national preserves. This proposed rule would implement regulatory changes for certain areas where motor vehicles may be used off roads in the recreation area in compliance with 36 CFR 4.10 and Executive Orders 11644 and 11989. The proposed changes to motor vehicle use on roads within the recreation area are not subject to the requirements in 36 CFR 4.10(b) and the Executive Orders. Paved and unpaved roads within the recreation area are referred to in this rule and defined in the regulations as “GMP roads” because they are identified in the recreation area's 1979 General Management Plan as open to motor vehicle traffic. There are no roads within the recreation area other than GMP roads.

Current Motor Vehicle Use in the Recreation Area

In 2021, the NPS promulgated special regulations addressing the use of motor vehicles within the recreation area (86 FR 3804). These regulations are codified at 36 CFR 7.70(f) and address the use of conventional motor vehicles, off-highway vehicles (OHVs), and street-legal all-terrain vehicles (ATVs). The regulations establish rules for the use of motor vehicles on paved and unpaved GMP roads and off roads in designated areas and routes. The regulations also contain a permit requirement for off-road motor vehicle use, motor vehicle and operator requirements, and provide the superintendent with a specific discretionary authority to establish closures, conditions, and restrictions on off-road motor vehicle use after taking into consideration public health and safety, natural and cultural resource protection, lake levels, and other management activities and objectives.

Litigation and Settlement Agreement

National Parks Conservation Association filed a Complaint challenging the special regulations on January 19, 2021, which they subsequently amended on April 16, 2021. More than two years later, Southern Utah Wilderness Alliance filed a Complaint on March 15, 2023, which it subsequently amended on August 7, 2023. The Court consolidated the two matters and stayed the cases for settlement discussions among the parties. The Parties executed a Settlement Agreement on March 26, 2024. The court subsequently entered an Order dismissing the cases on April 10, 2024. As part of the Settlement, the NPS agreed to propose revisions to the existing special regulations.

Proposed Rule

This rule would make the following changes to the existing special regulations in 36 CFR 7.70(f).

Two changes would address OHV and street-legal ATV use in the Orange Cliffs Special Management Unit, defined in the existing regulations as the area identified as the Orange Cliffs Special Management Unit in the Canyonlands National Park and Orange Cliffs Unit of Glen Canyon National Recreation Area Backcountry Management Plan (NPS 1995). The rule would prohibit the use of OHVs and street-legal ATVs on an 8-mile segment of the Poison Spring Loop located on Route 633 proceeding north to Route 730 in the Orange Cliffs Special Management Unit, identified in Table 2 to paragraph (f)(4)(i) in the existing special regulations. The rule would also eliminate the superintendent's authority to potentially allow OHVs and street-legal ATVs on the upper portion of the Flint Trail in the Orange Cliffs Special Management Unit, identified in Table 2 to paragraph (f)(4)(i) in the existing special regulations.

Three other changes would address off-road vehicle use in areas that allow for access from GMP roads to the shoreline of the lake, referred to as shoreline access areas.

One change would affect the following 10 shoreline access areas that are identified in table 1 to paragraph (f)(3)(ii) of the existing special regulations: Lone Rock Beach, Blue Notch, Bullfrog North and South, Crosby Canyon, Dirty Devil, Farley Canyon, Hite Boat Ramp, Red Canyon, Stanton Creek, White Canyon. The rule would separate the existing shoreline access area at Bullfrog North and South into two shoreline access areas, one for Bullfrog North and another for Bullfrog South. The rule would require the superintendent to identify lake elevation levels at each of the 11 shoreline access areas where, if the lake elevation drops below the identified level and remains below the identified level for seven consecutive days, the shoreline access area would close to off-road motor vehicle use. Inversely, if the lake elevation increases above the identified level and remains above the identified level for seven consecutive days, the shoreline access area would open to off-road vehicle use.

The rule would require the superintendent to use hydrologic data from the United States Geological Survey and the Bureau of Reclamation to set the lake elevation levels, which would be subject to change based upon public health and safety, natural and cultural resource protection, and other management activities and objectives. The rule would require the elevation levels to be published on the recreation area's website and listed in the superintendent's compendium for the recreation area. The superintendent's compendium is a written compilation of all the designations, closures, permit requirements and other restrictions imposed under discretionary authority, required by 36 CFR 1.7(b). After the lake elevation drops below or rises above the identified level, and the seven-day waiting period has concluded, the rule would require the superintendent to identify the shoreline access area as open or closed to off-road vehicle use on the website for the recreation area and in the superintendent's compendium within 14 days after the expiration of the seven-day waiting period. The rule would require the NPS to install signs at each shoreline access area notifying the public that it is opened or closed to off-road motor vehicle use. When a shoreline access area is closed because lake elevations have dropped, the rule also would require the NPS to consider additional steps to prevent off-road vehicle use in the area, such as the installation of gates. The rule would clarify that motor vehicle use on a GMP road may continue within a closed shoreline access area at the discretion of the superintendent, and subject to the rules for operating a motor vehicle on such roads in the special regulations.

A second change related to shoreline access areas would add a statement in the regulations that off-road vehicle use in any of those areas, including the shoreline access areas identified in table 1 to paragraph (f)(3)(ii) of the existing special regulations that are not subject to closure based upon lake elevation, must be for the purpose of traveling from a GMP road to the shoreline, and back. This would draw a clear distinction between the purpose of off-road vehicle use in shoreline access areas and the purpose of off-road vehicle use in Lone Rock Beach, Lone Rock Beach Play Area, and Ferry Swale, which are identified in table 1 to paragraph (f)(3)(ii), but not considered shoreline access areas. Lone Rock Beach is a developed area with a year-round campground and visitor activities associated with that use. Lone Rock Beach Play Area is a fenced location open to dispersed, high-intensity ORV use. Ferry Swale is a network of approximately 21 miles of off-road vehicle routes that does not provide access to the lake.

The existing regulations in paragraph (f)(6)(i) require the superintendent to provide public notice of closures, conditions or restrictions on ORV use through one or more of the methods listed in 36 CFR 1.7. A third change affecting shoreline access areas would require the superintendent, in every case, to publish notice of all such actions on the recreation area's website.

The revised rule would also prohibit OHV and street-legal ATV use on the following unpaved GMP roads in the Recreation & Resource Utilization Zone that is defined in the 1979 General Management Plan for the recreation area:

• Unnamed road near Dry Mesa/Sheep's Canyon near Hite, sometimes referred to as Dry Mesa Road (approximately 4.31 miles).

• Road #2/95 Spur near Hite, also known as Dirty Devil Spur (approximately 1.14 miles).

• Cove Canyon Spur Road near Hite (approximately 0.65 miles).

• Flint Trail Spur Road near Hite, also known as Waterhole Flat Spur #1 Road & Dark Canyon Overlook Road (approximately 0.72 miles).

• Ticaboo Mesa Road near Bullfrog (approximately 1.45 miles).

• Muley Point Road (approximately 1.26 miles).

• Johns Canyon Road near Muley Point (approximately 7.49 miles).

NPS would also change the quiet hours in the Lone Rock Beach Play Area from 10 p.m. to 6 a.m., in the existing regulations, to sunset to sunrise in the proposed rule. The superintendent retains the authority to lengthen the quiet hour time-period.

This rule would also replace a reference in paragraph (f)(2)(ii) of § 7.70 of the existing regulations to a “special use permit” with a general reference to a “permit,” in order to provide the NPS with the flexibility to use, upon further analysis, other types of permits to authorize off-road vehicle use, such as special recreation permits under the Federal Lands Recreation Enhancement Act. 16 U.S.C. 6802(h).

Finally, the rule would remove two sentences in paragraphs (f)(2)(i) and (f)(3)(ii) stating that certain regulations are effective beginning on May 17, 2021. This date has passed and therefore these statements are obsolete and unnecessary.

Compliance With Other Laws, Executive Orders, and Department Policy

Use of Off-Road Vehicles on the Public Lands (Executive Orders 11644 and 11989)

Executive Order 11644, as amended by Executive Order 11989, was adopted to address impacts on public lands from ORV use. The Executive Order applies to ORV use on Federal public lands that is not authorized under a valid lease, permit, contract, or license. Section 3(a)(4) of Executive Order 11644 provides that ORV “[a]reas and trails shall be located in areas of the National Park System, Natural Areas, or National Wildlife Refuges and Game Ranges only if the respective agency head determines that off-road vehicle use in such locations will not adversely affect their natural, aesthetic, or scenic values.” Since the E.O. clearly was not intended to prohibit all ORV use everywhere in these units, the term “adversely affect” does not have the same meaning as the somewhat similar terms “adverse impact” and “adverse effect” used in the National Environmental Policy Act of 1969 (NEPA). In analyses under NEPA, a procedural statute that provides for the study of environmental impacts, the term “adverse effect” includes minor or negligible effects.

Section 3(a)(4) of the Executive Order, by contrast, concerns substantive management decisions and must be read in the context of the authorities applicable to such decisions. Glen Canyon National Recreation Area is an area of the National Park System. Therefore, NPS interprets the Executive Order term “adversely affect” consistent with its NPS Management Policies 2006. Those policies require that the NPS only allow “appropriate use” of parks and avoid “unacceptable impacts.”

This rule is consistent with the requirements of Executive Order 11644. Substantive analysis supporting this determination includes, but is not limited to, the January 2017 Off-Road Vehicle Management Plan/Final Environmental Impact Statement (FEIS), and the pending revised Record of Decision and Non-Impairment Determination for this rulemaking.

Section 8(a) of the Executive Order requires agency heads to monitor the effects of ORV use on lands under their jurisdictions. On the basis of information gathered, agency heads may from time to time amend or rescind designations of areas or other actions as necessary to further the policy of the Executive Order. The preferred alternative in the FEIS that was selected in the related 2017 Record of Decision includes monitoring and resource protection procedures and periodic review to provide for the ongoing evaluation of impacts of motor vehicle use on protected resources. This ongoing adaptive management and monitoring protocol would continue under the proposed rule. The superintendent retains authority to take appropriate action as needed to protect the resources of the recreation area.

Regulatory Planning and Review (Executive Orders 12866 and 13563 and 14094)

Executive Order 12866, as amended by Executive Order 14094, provides that the Office of Information and Regulatory Affairs (OIRA) in the Office of Management and Budget will review all significant rules. OIRA has determined that the final rule is not significant.

Executive Order 14094 amends Executive Order 12866 and reaffirms the principles of Executive Order 12866 and Executive Order 13563 and states that regulatory analysis should facilitate agency efforts to develop regulations that serve the public interest, advance statutory objectives, and be consistent with Executive Order 12866, Executive Order 13563, and the Presidential Memorandum of January 20, 2021 (Modernizing Regulatory Review). Regulatory analysis, as practicable and appropriate, shall recognize distributive impacts and equity, to the extent permitted by law.

Executive Order 13563 reaffirms the principles of Executive Order 12866 while calling for improvements in the nation's regulatory system to promote predictability, to reduce uncertainty, and to use the best, most innovative, and least burdensome tools for achieving regulatory ends. Executive Order 13563 directs agencies to consider regulatory approaches that reduce burdens and maintain flexibility and freedom of choice for the public where these approaches are relevant, feasible, and consistent with regulatory objectives. Executive Order 13563 emphasizes further that regulations must be based on the best available science and that the rulemaking process must allow for public participation and an open exchange of ideas. The NPS has developed this proposed rule in a manner consistent with these requirements.

Regulatory Flexibility Act (RFA)

This proposed rule will not have a significant economic effect on a substantial number of small entities under the RFA (5 U.S.C. 601 et seq.). No small entities would be directly regulated by the proposed rule, which would only modify regulations affecting visitor use of ORVs in certain areas of the park. The roads that would be closed to OHV and street-legal ATV use only account for 25 of 388 miles (or approximately six percent) of GMP roads open to motor vehicle use in the recreation area. Currently, there are no authorized guiding companies that use OHVs and street-legal ATVs on the roads that would be closed to those vehicles.

Congressional Review Act

This rulemaking is not a major rule under 5 U.S.C. 804(2). This rulemaking:

(a) Does not have an annual effect on the economy of $100 million or more.

(b) Will not cause a major increase in costs or prices for consumers, individual industries, Federal, State, or local government agencies, or geographic regions.

(c) Does not have significant adverse effects on competition, employment, investment, productivity, innovation, or the ability of U.S.-based enterprises to compete with foreign-based enterprises.

Unfunded Mandates Reform Act

This rulemaking does not impose an unfunded mandate on State, local, or Tribal governments or the private sector of more than $100 million per year. The rulemaking does not have a significant or unique effect on State, local or Tribal governments or the private sector. It addresses public use of national park lands and imposes no requirements on other agencies or governments. A statement containing the information required by the Unfunded Mandates Reform Act (2 U.S.C. 1531 et seq.) is not required.

Takings (Executive Order 12630)

This rulemaking does not effect a taking of private property or otherwise have takings implications under Executive Order 12630. A takings implication assessment is not required.

Federalism (Executive Order 13132)

Under the criteria in section 1 of Executive Order 13132, the rulemaking does not have sufficient federalism implications to warrant the preparation of a federalism summary impact statement. This rulemaking only affects use of federally administered lands and waters. It has no direct effects on other areas. A federalism summary impact statement is not required.

Civil Justice Reform (Executive Order 12988)

This rulemaking complies with the requirements of Executive Order 12988. This rulemaking:

(a) Meets the criteria of section 3(a) requiring that all regulations be reviewed to eliminate errors and ambiguity and be written to minimize litigation; and

(b) Meets the criteria of section 3(b)(2) requiring that all regulations be written in clear language and contain clear legal standards.

Consultation With Indian Tribes (Executive Order 13175 and Department Policy)

The Department of the Interior strives to strengthen its government-to-government relationship with Indian Tribes through a commitment to consultation with Indian Tribes and recognition of their right to self-governance and Tribal sovereignty. We have evaluated this proposed rule under the criteria in Executive Order 13175 and under the Department's consultation policy and have determined that Tribal consultation on the proposed rule is not required because the proposed rule will have no substantial direct effect on federally recognized Indian Tribes. In support of the Department of Interior and NPS commitment for government-to-government consultation with the 19 Native American Tribes and bands associated with the recreation area, and as a reflection of the shared boundary of the recreation area and the Navajo Nation, the NPS has engaged in a continuing process of consultation with these Tribes and bands. This consultation has taken the form of bimonthly newsletters, in-person meetings with chapter houses, informal email updates, and formal update letters.

Paperwork Reduction Act (PRA)

This proposed rule contains no new information requirements that will affect the currently approved information collection. (NPS Special Park Use Permits NPS Form 10-933—OMB Control Number 1024-0026). By using NPS Form 10-933 this action will cause a net increase of 3,000 respondents and 750 burden hours. In accordance with 5 CFR 1320.10, the agency may continue to conduct or sponsor this collection of information while the submission is pending at OMB). Based on the anticipated net increase, we expect that the overall respondent burden for this collection will be 83,542 responses totaling 23,640 annual burden hours.

Title of Collection: Special Park Use Applications, portions of 36 CFR 1-7, 13, 20, and 34.

OMB Control Number: 1024-0026.

Form Number: NPS Forms 10-930, 10-930c, 10-930s, 10-930q, 10-931, 10-932, 10-933, 10-934.

Type of Review: Revision of a currently approved collection.

Respondents/Affected Public: Individuals/households (licensed anglers drawn from three representative U.S. States).

Total Estimated Number of Annual Respondents: 83,542.

Total Estimated Number of Annual Responses: 83,542.

Estimated Completion Time per Response: Varies from 15 minutes to 30 minutes.

Total Estimated Number of Annual Burden Hours: 23,640.

Respondent's Obligation: Required to obtain or retain a benefit.

Frequency of Collection: On occasion.

Total Estimated Annual Nonhour Burden Cost: $6,265,650 for application fees.

An agency may not conduct or sponsor and a person is not required to respond to a collection of information unless it displays a currently valid OMB control number.

National Environmental Policy Act of 1969 (NEPA)

This rule constitutes a major Federal action significantly affecting the quality of the human environment. We have prepared a FEIS under NEPA. The FEIS is available online at http://parkplanning.nps.gov/glca-orvplan, and then clicking on the link entitled “Document List”. Upon or before publication of the final rule, the NPS will publish a revised Record of Decision for the FEIS on the recreation area planning website identified above.

Effects on the Energy Supply (Executive Order 13211)

This proposed rule is not a significant energy action under the definition in Executive Order 13211. A Statement of Energy Effects is not required.

Clarity of This Rule

The NPS is required by Executive Orders 12866 (section 1(b)(12)) and 12988 (section 3(b)(1)(B)), and 13563 (section 1(a)), and by the Presidential Memorandum of June 1, 1998, to write all rules in plain language. This means that each rule the NPS publishes must:

(a) Be logically organized;

(b) Use the active voice to address readers directly;

(c) Use common, everyday words and clear language rather than jargon;

(d) Be divided into short sections and sentences; and

(e) Use lists and tables wherever possible.

If you feel that the NPS has not met these requirements, send us comments by one of the methods listed in the ADDRESSES section. To better help the NPS revise the proposed rule, your comments should be as specific as possible. For example, you should identify the numbers of the sections or paragraphs that you find unclear, which sections or sentences are too long, the sections where you feel lists or tables would be useful, etc.

Public Participation

It is the policy of the Department of the Interior, whenever practicable, to afford the public an opportunity to participate in the rulemaking process. Accordingly, interested persons may submit written comments regarding this proposed rule by one of the methods listed in the ADDRESSES section of this document.

Public Availability of Comments

Before including your address, phone number, email address, or other personal identifying information in your comment, you should be aware that your entire comment—including your personal identifying information—may be made publicly available at any time.

List of Subjects in 36 CFR Part 7

National parks, Reporting and recordkeeping requirements.

In consideration of the foregoing, the National Park Service proposes to amend 36 CFR part 7 as follows:

PART 7—SPECIAL REGULATIONS, AREAS OF THE NATIONAL PARK SYSTEM

1. The authority citation for part 7 continues to read as follows:

Authority: 54 U.S.C. 100101, 100751, 320102; Sec. 7.96 also issued under D.C. Code 10-137 and D.C. Code 50-2201.07.

2. Amend § 7.70 by:

a. Removing and reserving paragraph (f)(2)(i);

b. In paragraph (f)(2)(ii), removing the words “special use”;

c. In paragraph (f)(3)(ii), removing the last sentence;

d. In table 1 to paragraph (f)(3)(ii):

i. Adding, at the top of the table, entries for “Bullfrog North” and “Bullfrog South”;

ii. Revising the entry for “Lone Rock Beach Play Area”; and

iii. Removing the entry for “Bullfrog North and South”;

e. Adding paragraphs (f)(3)(iii) and (iv);

f. Revising table 2 to paragraph (f)(4)(i); and

g. Revising paragraphs (f)(4)(ii) and paragraph (f)(6)(ii).

The revisions and additions read as follows:

* * * * *

(f) * * *

(3) * * *

(ii) * * *

Table 1 to Paragraph (f)(3)(ii)
Designated area or route for off-road motor vehicle use | Approximate size (acres) | Management prescriptions
Bullfrog North | 860 | • Street-legal ATVs allowed with ORV permit from March 2-October 31.
|  | • Conventional motor vehicles allowed with ORV permit year-round.
|  | • 15 mph speed limit (unless otherwise posted).
|  | • Quiet hours between 10 p.m. and 6 a.m. or as designated by superintendent.
|  | • Vehicle-free zone as posted.
Bullfrog South | 1,410 | • Street-legal ATVs allowed with ORV permit from March 2-October 31.
|  | • Conventional motor vehicles allowed with ORV permit year-round.
|  | • 15 mph speed limit (unless otherwise posted).
|  | • Quiet hours between 10 p.m. and 6 a.m. or as designated by superintendent.
|  | • Vehicle-free zone as posted.
* * * * * * *
Lone Rock Beach Play Area | 180 | • Conventional motor vehicles, street-legal ATVs, and OHVs allowed with ORV permit.
|  | • OHVs required to display a red or orange safety flag at least six by 12 inches in size that is located at least eight feet off the ground, or at least 18 inches above the top of the protective headgear of a motorcycle or dirt bike operator.
|  | • Quiet hours between sunset and sunrise or as lengthened by the superintendent.
* * * * * * *

(iii) Certain areas designated in table 1 to paragraph (f)(3)(ii) will close and open to off-road motor vehicle use pursuant to the provisions in this paragraph (f)(3)(iii).

(A) The superintendent will identify lake elevation levels for each of the following areas designated in table 1 to paragraph (f)(3)(ii): Lone Rock Beach, Blue Notch, Bullfrog North, Bullfrog South, Crosby Canyon, Dirty Devil, Farley Canyon, Hite Boat Ramp, Red Canyon, Stanton Creek, and White Canyon.

(B) The superintendent will use hydrologic data from the United States Geological Survey and the Bureau of Reclamation to identify the lake elevation levels, which would be subject to change based upon public health and safety, natural and cultural resource protection, and other management activities and objectives. The superintendent will notify the public of the lake elevation levels by publishing them on the website of the recreation area and in the superintendent's compendium (or written compilation) of discretionary actions referred to in 36 CFR 1.7(b).

(C) If the lake elevation drops below the identified level for a designated area and remains below the identified level for seven consecutive days, the superintendent will close the designated area to off-road motor vehicle use. If the lake elevation increases above the identified level for a designated area and remains above the identified level for seven consecutive days, the superintendent will open the designated area to off-road motor vehicle use. The superintendent will notify the public that a designated area has been closed or opened to off-road motor vehicle use within 14 days after the expiration of the seven-day waiting period, by publishing a notice of the management action on the website of the recreation area and in the superintendent's compendium.

(D) The National Park Service will install signs at each designated area notifying the public that it is opened or closed to off-road motor vehicle use. When a designated area is closed because lake elevations have dropped, the superintendent will consider additional steps to prevent off-road motor vehicle use in the area, such as the installation of gates. Motor vehicle use on a GMP road may continue within a closed designated area at the discretion of the superintendent, and subject to the rules for operating a motor vehicle on such roads in this paragraph (f) to § 7.70.

(iv) Off-road motor vehicle use in any of the areas designated in Table 1 to Paragraph (f)(3)(ii), except for Lone Rock Beach, Lone Rock Beach Play Area and Ferry Swale, must be for the purpose of traveling from a GMP road to the shoreline, and back.

(4) * * *

(i) * * *

Table 2 to Paragraph (f)(4)(i)
Type of motor vehicle | Allowed on paved GMP roads | Allowed on unpaved GMP roads outside the Orange Cliffs Special Management Unit | Allowed on unpaved GMP roads within the Orange Cliffs Special Management Unit
Conventional motor vehicle | Yes | Yes | Yes.
Street-legal ATV | Yes (except for the Lees Ferry Developed Area) | Yes (except for the GMP roads identified in paragraph (f)(4)(ii)) | No.
OHV | No | Yes (except for the GMP roads identified in paragraph (f)(4)(ii)) | No.

(ii) Street-legal ATVs and OHVs are not allowed on the following unpaved GMP roads identified in the Recreation & Resource Utilization Zone, as defined in the 1979 General Management Plan for the recreation area:

(A) Unnamed road near Dry Mesa/Sheep's Canyon near Hite, sometimes referred to as Dry Mesa Road (approximately 4.31 miles).

(B) Road #2/95 Spur near Hite, also known as Dirty Devil Spur (approximately 1.14 miles).

(C) Cove Canyon Spur Road near Hite (approximately 0.65 miles).

(D) Flint Trail Spur Road near Hite, also known as Waterhole Flat Spur #1 Road and Dark Canyon Overlook Road (approximately 0.72 miles).

(E) Ticaboo Mesa Road near Bullfrog (approximately 1.45 miles).

(F) Muley Point Road (approximately 1.26 miles).

(G) Johns Canyon Road near Muley Point (approximately 7.49 miles).

* * * * *

(6) * * *

(i) * * *

(ii) The superintendent will provide public notice of all such actions through one or more of the methods listed in § 1.7 of this chapter, and through publication on the recreation area website.

* * * * *

Shannon A. Estenoz,
Assistant Secretary for Fish and Wildlife and Parks.

[FR Doc. 2024-21032 Filed 9-13-24; 8:45 am]

BILLING CODE 4312-52-P